DEPARTMENT OF STATE

[Public Notice: 6533]

Bureau of Diplomatic Security, Office of Foreign Missions

Title: 60-Day Notice of Proposed Information Collection: Forms DS-2003 & DS-2004, Notification of Appointment of Foreign Diplomatic Officer, Career Consular Officer, and Foreign Government Employee; Form DS-2005, Notification of Appointment of Honorary Consular Officer; Form DS-2006, Notification of Change—Identification Card Request; Form DS-2007, Notification of Dependents of Diplomatic, Consular and Foreign Government Employees (Continuation Sheet); Form DS-2008, Notice of Termination of Diplomatic, Consular, or Foreign Government Employment; Forms DS-98 and DS-99, Application for Diplomatic Exemption From Taxes On; Forms DS-100, DS-101, DS-102, & DS-104, Diplomatic Motor Vehicle Applications for: Vehicle Registration, Title, & Replacement Plates; Department of State Form DS-1504; Request for Customs Clearance of Merchandise; Form DS-1972, U.S. Department of State Driver License and Tax Exemption Card Application; Foreign Diplomatic Services Applications, OMB Collection Number 1405-0105.

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Notification of Appointment of Foreign Diplomatic Officer, Career Consular Officer, and Foreign Government Employee.

• OMB Control Number: 1405-0105.

• Type of Request: Revision of currently approved collection.

• Originating Office: Diplomatic Security/Office of Foreign Missions (DS/OFM).

• Form Numbers: DS-2003, DS-2004, & e-2003.

• Respondents: Foreign government representatives assigned to the United States.

• Estimated Number of Respondents: 350 missions.

• Estimated Number of Responses: 11,154 responses (DS-2003: 800), (DS-2004: 1654), & (e-2003: 8,700).

• Average Hours per Response: 25 minutes.

• Total Estimated Burden: 4,640 hours divided among the missions.

• Frequency: On occasion.

• Obligation to Respond: Mandatory.

• Title of Information Collection: Notification of Appointment of Honorary Consular Officer.

• OMB Control Number: 1405-0105.

• Type of Request: Revision of currently approved collection.

• Originating Office: Diplomatic Security/Office of Foreign Missions (DS/OFM).

• Form Number: DS-2005.

• Respondents: Foreign government representatives assigned to the United States.

• Estimated Number of Respondents: 155 missions.

• Estimated Number of Responses: 200 forms per year.

• Average Hours per Response: 20 minutes.

• Total Estimated Burden: 67 hours divided among the missions.

• Frequency: On occasion.

• Obligation to Respond: Mandatory.

• Title of Information Collection: Notification of Change—Identification Card Request.

• OMB Control Number: 1405-0105.

• Type of Request: Revision of currently approved collection.

• Originating Office: Diplomatic Security/Office of Foreign Missions (DS/OFM).

• Form Numbers: DS-2006, & e-2006.

• Respondents: Foreign government representatives assigned to the United States.

• Estimated Number of Respondents: 350 missions.

• Estimated Number of Responses: 8,116 responses (DS-2006: 7,124), (e-2006: 992).

• Average Hours per Response: 9 minutes.

• Total Estimated Burden: 1,217 hours divided among the missions.

• Frequency: On occasion.

• Obligation to Respond: Mandatory.

• Title of Information Collection: Notification of Dependents of Diplomatic, Consular, and Foreign Government Employees (Continuation Sheet).

• OMB Control Number: 1405-0105.

• Type of Request: Revision of currently approved collection.

• Originating Office: Diplomatic Security/Office of Foreign Missions (DS/OFM).

• Form Number: DS-2007.

• Respondents: Foreign government representatives assigned to the United States.

• Estimated Number of Respondents: 350 missions.

• Estimated Number of Responses: 3,000 forms per year.

• Average Hours per Response: 10 minutes.

• Total Estimated Burden: 498 hours divided among the missions.

• Frequency: On occasion.

• Obligation to Respond: Mandatory.

• Title of Information Collection: Notice of Termination of Diplomatic, Consular, or Foreign Government Employment.

• OMB Control Number: 1405-0105.

• Type of Request: Revision of currently approved collection.

• Originating Office: Diplomatic Security/Office of Foreign Missions (DS/OFM).

• Form Numbers: DS-2008, & e-2008.

• Respondents: Foreign government representatives assigned to the United States.

• Estimated Number of Respondents: 350 missions.

• Estimated Number of Responses: 6,685 eGov responses.

• Average Hours per Response: 10 minutes.

• Total Estimated Burden: 1,110 hours divided among the missions.

• Frequency: On occasion.

• Obligation to Respond: Mandatory.

• Title of Information Collection: Application for Diplomatic Exemption From Taxes.

• OMB Control Number: 1405-0105.

• Type of Request: Revision of an approved collection.

• Originating Office: Diplomatic Security/Office of Foreign Missions (DS/OFM).

• Form Numbers: DS-98, DS-99, e-98, & e-99.

• Respondents: Eligible foreign diplomatic or consular missions, certain foreign government organizations, and designated international organizations.

• Estimated Number of Respondents: 350.

• Estimated Number of Responses: 5,089 eGov submissions (e-98: 2,413), (e-99: 2,676).

• Average Hours per Response: 15 minutes.

• Total Estimated Burden: 1,272 hours.

• Frequency: On occasion.

• Obligation to Respond: Required to obtain or retain a benefit.

• Title of Information Collection: Diplomatic Motor Vehicle Applications for: Vehicle Registration, Title, & Replacement Plates.

• OMB Control Number: 1405-0105.

• Type of Request: Revision of a currently approved collection.

• Originating Office: Diplomatic Security/Office of Foreign Missions (DS/OFM).

• Form Numbers: DS-100, DS-101, DS-102, & DS-104.

• Respondents: Foreign government representatives assigned to the United States.

• Estimated Number of Respondents: 350.

• Estimated Number of Responses: 14,865.

• Average Hours per Response: 30 minutes.

• Total Estimated Burden: 7,433.

• Frequency: On occasion.

• Obligation to Respond: Required to obtain or retain a benefit.

• Title of Information Collection: Request for Customs Clearance of Merchandise.

• OMB Control Number: 1405-0105.

• Type of Request: Revision of a currently approved collection.

• Originating Office: Diplomatic Security/Office of Foreign Missions (DS/OFM).

• Form Number: DS-1504.

• Respondents: Foreign government representatives assigned to the United States.

• Estimated Number of Respondents: 350.

• Estimated Number of Responses: 7,938.

• Average Hours per Response: 30 minutes.

• Total Estimated Burden: 3,969 hours.

• Frequency: On occasion.

• Obligation to Respond: Required to obtain or retain a benefit.

• Title of Information Collection: U.S. Department of State Driver License and Tax Exemption Card Application.

• OMB Control Number: 1405-0105.

• Type of Request: Revision of a currently approved collection.

• Originating Office: Diplomatic Security/Office of Foreign Missions (DS/OFM).

• Form Numbers: DS-1972, DS-1972D, DS-1972T.

• Respondents: Foreign government representatives assigned to the United States.

• Estimated Number of Respondents: 350 foreign missions.

• Estimated Number of Responses: 12,725 responses (DS-1972: 1,402), (DS-1972D: 6,282), (DS-1972T: 5,041).

• Average Hours per Response: DS-1972 (30 minutes), DS-1972D (20 minutes), DS-1972T (15 minutes).

• Total Estimated Burden: 4,053 hours.

• Frequency: On occasion.

• Obligation to Respond: Required to obtain or retain benefits.

DATES: The Department will accept comments from the public up to 60 days from date of publication in the Federal Register.

ADDRESSES: You may submit comments by either of the following methods:

• E-mail: OFMInfo@state.gov.

• Mail: U.S. Department of State, Diplomatic Security, Office of Foreign Missions, 2201 C Street, NW., Room 2238, Washington, DC 20520.

You must include the DS form number, information collection title, and OMB control number in any correspondence.

FOR FURTHER INFORMATION CONTACT: Direct requests for additional information regarding the collection listed in this notice, including requests for copies of the proposed information collection and supporting documents, to Attn: Jacqueline Robinson, Diplomatic Security, Office of Foreign Missions, 2201 C Street, NW., Room 2238, Washington, DC 20520, who may be reached on (202) 647-3416 or OFMInfo@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection: The Foreign Diplomatic Service Applications (FDSA) associated with OMB Collection number 1405-0105 (DS-2003, DS-2004, DS-2005, DS-2006, DS-2007, and DS-2008) are the means by which the Department of State obtains the information necessary to accept the appointments and terminations of foreign government employees and diplomatic, career and honorary consular officers serving in the United States; their dependents and personal servants accompanying them on tours-of-duty in the United States; to issue documents or update information previously submitted; to extend or terminate privileges and immunities accorded under the Vienna Convention on Diplomatic Relations, 1961 and the Vienna Convention on Consular Relations, 1963. Also, FDSA DS-1504, DS-98, DS-99, and DS-1972, also associated with OMB number 1405-0105, are the means by which the Department provide customs duty-free entry privileges, exemption from taxes on the use of public utilities and the purchase of gasoline and other motor fuels, the issuance of a driver license and/or a sales tax exemption card for foreign mission personnel and their dependents. In addition, DS-100, DS-101, DS-102, & DS-104 are the means by which the Department provides foreign missions and their members with registration, titling, and issuance of license plates for motor vehicles they own/operate. These are “benefits” designated under the Foreign Missions Act, 22 U.S.C. 4301 et seq. (FMA), and must be obtained through the U.S. Department of State. The applications provide the Department with the information necessary to administer the benefits effectively and efficiently and to monitor compliance with local laws, including the ability to identify and take action against motor vehicle operators who receive traffic citations. It also facilitates the Department's ability to monitor and enforce the compliance with Federal laws regarding liability insurance for all foreign mission-operated motor vehicles. FMA, 22 U.S.C. 4303a; 22 CFR part 151.

Methodology: These applications/information collections are submitted by all foreign missions to the Office of Foreign Missions via the following methods: Mail, personal delivery, and/or electronically.

Dated: January 30, 2009.
Robert D. Barton,
Managing Director, Bureau of Diplomatic Security, Office of Foreign Missions, U.S. Department of State.

[FR Doc. E9-4139 Filed 2-25-09; 8:45 am]

BILLING CODE 4710-43-P